FEDERAL COMMUNICATIONS COMMISSION

Deletion of Items From Sunshine Act Meeting

February 21, 2018.

The following item has been deleted from the list of items scheduled for consideration at the Thursday, February 22, 2018, Open Meeting and previously listed in the Commission's Notice of February 15, 2018.

5. | Media | Title: Amendment of Parts 74, 76 and 78 of the Commission's Rules Regarding Maintenance of Copies of FCC Rules (MB Docket No. 17-231); Modernization of Media Regulation Initiative (MB Docket No. 17-105).
|  | Summary: The Commission will consider a Report and Order that would eliminate specific Part 74, 76, and 78 rules that require certain broadcast and cable entities to maintain paper copies of Commission rules, while retaining provisions that require the subject entities to be familiar with the rules governing their operations.

Federal Communications Commission.
Marlene H. Dortch,
Secretary.

[FR Doc. 2018-04358 Filed 2-28-18; 11:15 am]

BILLING CODE 6712-01-P